DEPARTMENT OF TRANSPORTATION

14 CFR Part 97

[Docket No. 30712; Amdt. No. 3363]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 1, 2010. The compliance date for each SIAP, associated Takeoff Minimums, and ODP is specified in the amendatory provisions.

The incorporation by reference of certain publications listed in the regulations is approved by the Director of the Federal Register as of March 1, 2010.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on February 19, 2010.
John M. Allen,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
8-Apr-10 | OK | ENID | ENID WOODRING RGNL | 0/2566 | 2/3/10 | VOR RWY 35, AMDT 14.
8-Apr-10 | OK | ENID | ENID WOODRING RGNL | 0/2569 | 2/3/10 | RNAV (GPS) RWY 35, ORIG.
8-Apr-10 | OK | ENID | ENID WOODRING RGNL | 0/2579 | 2/3/10 | ILS OR LOC RWY 35, AMDT 5.
8-Apr-10 | WI | MADISON | BLACKHAWK AIRFIELD | 0/2837 | 2/3/10 | VOR OR GPS A, ORIG-B.
8-Apr-10 | FL | NAPLES | NAPLES MUNI | 0/2858 | 2/4/10 | VOR RWY 23, AMDT 6C.
8-Apr-10 | AL | MOBILE | MOBILE REGIONAL | 0/3027 | 2/8/10 | RNAV (GPS) RWY 32, AMDT 1.
8-Apr-10 | KS | GARDNER | GARDNER MUNI | 0/3029 | 2/4/10 | TAKEOFF MINIMUMS AND OBSTACLE DP, ORIG.
8-Apr-10 | WI | HAYWARD | SAWYER COUNTY | 0/3031 | 2/3/10 | RNAV (GPW) RWY 2, ORIG.
8-Apr-10 | OH | AKRON | AKRON-CANTON REGIONAL | 0/3076 | 2/3/10 | VOR OR GPS RWY 23, AMDT 9A.
8-Apr-10 | OH | AKRON | AKRON-CANTON REGIONAL | 0/3078 | 2/3/10 | RADAR-1, AMDT 23.
8-Apr-10 | OH | AKRON | AKRON-CANTON REGIONAL | 0/3079 | 2/3/10 | VOR OR GPS RWY 5, AMDT 2A.
8-Apr-10 | OK | BRISTOW | JOMES MEML | 0/3089 | 2/3/10 | TAKEOFF MINIMUMS AND OBSTACLE DP, AMDT 4.
8-Apr-10 | MO | AVA | AVA BILL MARTIN MEMORIAL | 0/3090 | 2/3/10 | VOR A, AMDT 2.
8-Apr-10 | OK | ARDMORE | ARDMORE MUNI | 0/3093 | 2/3/10 | TAKEOFF MINIMUMS AND OBSTACLE DP, AMDT 1.
8-Apr-10 | MO | LEXINGTON | LEXINGTON MUNI | 0/3105 | 2/4/10 | VOR/DME OR GPS RWY 22, ORIG.
8-Apr-10 | IA | AMES | AMES MUNI | 0/3187 | 2/3/10 | ILS OR LOC RWY 1, AMDT 1A.
8-Apr-10 | MO | SEDALIA | SEDALIA MEMORIAL | 0/3231 | 2/4/10 | RNAV (GPS) RWY 18, AMDT 1A.
8-Apr-10 | MO | SEDALIA | SEDALIA MEMORIAL | 0/3232 | 2/4/10 | RNAV (GPS) RWY 36, AMDT 1A.
8-Apr-10 | MO | MEXICO | MEXICO MEMORIAL | 0/3233 | 2/4/10 | RNAV (GPS) RWY 24, AMDT 1.
8-Apr-10 | MO | MEXICO | MEXICO MEMORIAL | 0/3234 | 2/4/10 | LOC/DME RWY 24, AMDT 1.
8-Apr-10 | LA | GALLIANO | SOUTH LAFOURCHE LEONARD MILLER JR | 0/3269 | 2/3/10 | RNAV (GPS) RWY 18, AMDT 1.
8-Apr-10 | LA | JENNINGS | JENNINGS | 0/3270 | 2/4/10 | TAKEOFF MINIMUMS AND OBSTACLE DP, AMDT 2.
8-Apr-10 | LA | JENNINGS | JENNINGS | 0/3272 | 2/4/10 | VOR/DME RWY 8, AMDT 1.
8-Apr-10 | LA | JENNINGS | JENNINGS | 0/3274 | 2/4/10 | RNAV (GPS) RWY 8, ORIG.
8-Apr-10 | WI | FOND DU LAC | FOND DU LAC COUNTY | 0/3283 | 2/3/10 | VOR/DME OR GPS RWY 18, AMDT 6B.
8-Apr-10 | WI | MADISON | DANE COUNTY REGIONAL—TRUAX FIELD | 0/3285 | 2/3/10 | VOR/DME OR TACAN RWY 18, AMDT 1.
8-Apr-10 | WI | MADISON | DANE COUNTY REGIONAL—TRUAX FIELD | 0/3287 | 2/3/10 | VOR/DME OR TACAN RWY 14, ORIG-A.
8-Apr-10 | IL | CHICAGO | CHICAGO MIDWAY INTL | 0/3288 | 2/3/10 | ILS OR LOC/DME RWY 31C, ORIG.
8-Apr-10 | WI | FOND DU LAC | FOND DU LAC COUNTY | 0/3289 | 2/3/10 | RNAV (GPS) RWY 36, ORIG.
8-Apr-10 | IL | CHICAGO | CHICAGO MIDWAY INTL | 0/3290 | 2/3/10 | RNAV (GPS) RWY 22R, ORIG.
8-Apr-10 | IL | CHICAGO/PROSPECT HGTS/WHEELING | CHICAGO EXECUTIVE | 0/3291 | 2/4/10 | RNAV (GPS) RWY 16, ORIG.
8-Apr-10 | WI | MADISON | DANE COUNTY REGIONAL—TRUAX FIELD | 0/3311 | 2/3/10 | RADAR-1, AMDT 17.
8-Apr-10 | TX | LUFKIN | ANGELINA COUNTY | 0/3312 | 2/4/10 | ILS OR LOC RWY 7, AMDT 2.
8-Apr-10 | TX | LUFKIN | ANGELINA COUNTY | 0/3313 | 2/4/10 | RNAV (GPS) RWY 7, ORIG.
8-Apr-10 | MO | CHARLESTON | MISSISSIPPI COUNTY | 0/3322 | 2/3/10 | NDB OR GPS RWY 36, AMDT 3.
8-Apr-10 | TX | BAY CITY | BAY CITY MUNI | 0/3357 | 2/4/10 | GPS RWY 31, ORIG-A.
8-Apr-10 | MO | CAPE GIRARDEAU | CAPE GIRARDEAU RGNL | 0/3431 | 2/4/10 | ILS OR LOC RWY 10, AMDT 11.
8-Apr-10 | MO | ST LOUIS | LAMBERT—ST LOUIS INTL | 0/3434 | 2/4/10 | ILS OR LOC RWY 6, AMDT 1B.
8-Apr-10 | MO | CAPE GIRARDEAU | CAPE GIRARDEAU RGNL | 0/3436 | 2/4/10 | TAKEOFF MINIMUMS AND OBSTACLE DP, AMDT 7.
8-Apr-10 | WI | MADISON | DANE COUNTY REGIONAL—TRUAX FIELD | 0/3469 | 2/3/10 | VOR/DME OR TACAN RWY 32, ORIG-A.
8-Apr-10 | TX | BAY CITY | BAY CITY MUNI | 0/3470 | 2/4/10 | GPS RWY 13, ORIG-A.
8-Apr-10 | IA | STORM LAKE | STORM LAKE MUNI | 0/3484 | 2/4/10 | NDB RWY 17, ORIG.
8-Apr-10 | IA | STORM LAKE | STORM LAKE MUNI | 0/3485 | 2/4/10 | RNAV (GPS) RWY 17, ORIG.
8-Apr-10 | IA | STORM LAKE | STORM LAKE MUNI | 0/3492 | 2/4/10 | NDB RWY 35, AMDT 1B.
8-Apr-10 | ME | PRESQUE ISLE | NORTHERN MAINE REGIONAL ARPT AT PRESQUE IS | 0/3911 | 2/4/10 | VOR RWY 19, AMDT 10A.
8-Apr-10 | FL | ST PETERSBURG-CLEARWATER | ST PETERSBURG-CLEARWATER INTL | 0/4070 | 2/4/10 | RNAV (GPS) RWY 17L, ORIG-A.
8-Apr-10 | FL | PALM COAST | FLAGLER COUNTY | 0/4071 | 2/4/10 | TAKEOFF MINIMUMS AND OBSTACLE DP, ORIG.
8-Apr-10 | NM | TAOS | TAOS REGIONAL | 0/4122 | 2/4/10 | VOR/DME B, AMDT 3.
8-Apr-10 | WI | FOND DU LAC | FOND DU LAC COUNTY | 0/4190 | 2/3/10 | TAKEOFF MINIMUMS AND OBSTACLE DP, AMDT 1.
8-Apr-10 | CT | GROTON/NEW LONDON | GROTON-NEW LONDON | 0/4194 | 2/4/10 | VOR RWY 23, AMDT 10.
8-Apr-10 | CT | GROTON/NEW LONDON | GROTON-NEW LONDON | 0/4195 | 2/4/10 | RNAV (GPS) RWY 33, ORIG.
8-Apr-10 | CT | GROTON/NEW LONDON | GROTON-NEW LONDON | 0/4196 | 2/4/10 | RNAV (GPS) RWY 5, ORIG-B.
8-Apr-10 | CT | GROTON/NEW LONDON | GROTON-NEW LONDON | 0/4197 | 2/4/10 | RNAV (GPS) RWY 23, ORIG-A.
8-Apr-10 | CT | GROTON/NEW LONDON | GROTON-NEW LONDON | 0/4198 | 2/4/10 | VOR RWY 5, AMDT 8.
8-Apr-10 | CT | GROTON/NEW LONDON | GROTON-NEW LONDON | 0/4229 | 2/4/10 | ILS OR LOC RWY 5, AMDT 11A.
8-Apr-10 | FL | GAINESVILLE | GAINESVILLE RGNL | 0/4309 | 2/4/10 | RADAR-1, ORIG.
8-Apr-10 | FL | GAINESVILLE | GAINESVILLE RGNL | 0/4310 | 2/4/10 | RNAV (GPS) RWY 25, AMDT 1.
8-Apr-10 | FL | GAINESVILLE | GAINESVILLE RGNL | 0/4311 | 2/4/10 | RNAV (GPS) RWY 29, AMDT 1.
8-Apr-10 | AZ | PHOENIX | PHOENIX SKY HARBOR INTL | 0/4365 | 2/4/10 | RNAV (GPS) Y RWY 25R, AMDT 2.
8-Apr-10 | AZ | FLAGSTAFF | FLAGSTAFF PULLIAM | 0/4366 | 2/4/10 | ILS OR LOC/DME RWY 21, ORIG-D.
8-Apr-10 | MO | MALDEN | MALDEN RGNL | 0/4375 | 2/5/10 | RNAV (GPS) RWY 18, AMDT 1.
8-Apr-10 | TX | HOUSTON | DAVID WAYNE HOOKS MEMORIAL | 0/4395 | 2/5/10 | LOC RWY 17R, AMDT 1A.
8-Apr-10 | IL | MOLINE | QUAD CITY INTL | 0/4448 | 2/5/10 | ILS OR LOC RWY 9, AMDT 30A.
8-Apr-10 | OH | ALLIANCE | MILLER | 0/4456 | 2/5/10 | VOR OR GPS A, AMDT 8B.
8-Apr-10 | SD | SIOUX FALLS | JOE FOSS FIELD | 0/4477 | 2/5/10 | RNAV (GPS) RWY 15, ORIG-C.
8-Apr-10 | SD | SIOUX FALLS | JOE FOSS FIELD | 0/4478 | 2/5/10 | RNAV (GPS) RWY 3, ORIG-B.
8-Apr-10 | SD | SIOUX FALLS | JOE FOSS FIELD | 0/4479 | 2/5/10 | RNAV (GPS) RWY 33, ORIG-B.
8-Apr-10 | OH | ASHTABULA | ASHTABULA COUNTY | 0/4501 | 2/5/10 | VOR/DME RWY 26, AMDT 6A.
8-Apr-10 | OH | ASHTABULA | ASHTABULA COUNTY | 0/4502 | 2/5/10 | VOR RWY 8, ORIG-A.
8-Apr-10 | OK | MEDFORD | MEDFORD MUNI | 0/4816 | 2/8/10 | RNAV (GPS) RWY 17, ORIG.
8-Apr-10 | TN | BRISTOL/JOHNSON/KINGSPORT | TRI-CITIES RGNL | 0/4944 | 2/9/10 | RNAV (GPS) RWY 9, ORIG.
8-Apr-10 | MT | HAMILTON | RAVALLI COUNTY | 0/4997 | 2/9/10 | RNAV (GPS) RWY B, ORIG.
8-Apr-10 | MT | HAMILTON | RAVALLI COUNTY | 0/4994 | 2/9/10 | RNAV (GPS) RWY A, ORIG.
8-Apr-10 | NC | CHARLOTTE | CHARLOTTE/DOUGLAS INTL | 0/5474 | 2/11/10 | RNAV (RNP) Z RWY 36C, ORIG.

[FR Doc. 2010-3938 Filed 2-26-10; 8:45 am]

BILLING CODE 4910-13-P